NATIONAL AERONAUTICS AND SPACE ADMINISTRATION

[Notice (06-034)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATE: May 30, 2006.

FOR FURTHER INFORMATION CONTACT: Edward K. Fein, Patent Counsel, Johnson Space Center, Mail Code AL, Houston, TX 77058-8452; telephone (281) 483-4871; fax (281) 483-6936.

NASA Case No. MSC-23997-1: Magnetic Capture Docking Mechanism;

NASA Case No. MSC-23154-2: A Real-Time, High Frequency QRS Electrocardiograph;

NASA Case No. MSC-23954-1: Self-Advancing Step-Tap Tool;

NASA Case No. MSC-23623-1: String Resistance Detector;

NASA Case No. MSC-23876-1: Low Friction High Stiffness Joint for Sensing System;

NASA Case No. MSC-23931-1: New Methodology To Characterize Photochemically-Deposited Contaminant Films on Spacecraft Optical Systems.

Dated: May 23, 2006.
Keith T. Sefton,
Deputy General Counsel, Administration and Management.

[FR Doc. E6-8272 Filed 5-26-06; 8:45 am]

BILLING CODE 7510-13-P